DEPARTMENT OF THE INTERIOR

National Park Service

Announcement of Subsistence Resource Commission Meeting

AGENCY: National Park Service, Interior.

SUMMARY: Notice is hereby given in accordance with the Federal Advisory Committee Act that a meeting of the Aniakchak National Monument Park Subsistence Resource Commission will be held at Port Heiden, Alaska. The purpose of the meeting will be to continue work on National Park Service subsistence hunting program recommendations including other related subsistence management issues. The meeting will be open to the public. Any person may file with the Commission a written statement concerning the matters to be discussed.

The Subsistence Resource Commissions are authorized under Title VIII, section 808, of the Alaska National Interest Lands Conservation Act, Public Law 96-487, and operation in accordance with the provisions of the Federal Advisory Committee Act.

DATES: The meeting will be on September 22 and 23, 2003, from 9 a.m. to 4 p.m. at the Port Heiden Community Center, Port Heiden, Alaska.

In accordance with 41 CFR 102-3.150, we may provide less than 15 days notice in the Federal Register to convene the Commission prior to the September 29, 2003, Bristol Bay Regional Council meeting.

FOR FURTHER INFORMATION CONTACT: Mary McBurney, Subsistence Manager at (907) 257-2633.

SUPPLEMENTARY INFORMATION: Notice of this meeting will be published in local newspapers and announced on local radio stations prior to the meeting dates. Locations and dates may need to be changed based on weather or local circumstances. The following agenda items will be discussed:

1. Call to order (SRC Chair).

2. Roll Call and Confirmation of Quorum.

3. SRC Chair and Superintendent's Welcome and Introductions.

4. Review Commission Purpose and Status of Membership.

5. Review and Adopt Agenda.

6. Review and adopt minutes from last meeting.

7. Superintendent's Report.

8. Update SRC Chair's Workshop—October 21, 2003.

9. Update—Review Federal Subsistence Board Wildlife Proposals.

10. Update—Review Federal Subsistence Board Fisheries Proposals.

11. Develop comments for Federal Subsistence Board Proposals.

12. Review Status of Subsistence Hunting Program Recommendations.

13. Public and agency comments.

14. Set time and place of next SRC meeting.

15. Adjournment.

Draft minutes of the meeting will be available for public inspection approximately six weeks after the meeting from: Superintendent, Aniakchak National Monument and Preserve, PO Box 4230, University Drive #311, Anchorage, AK 99508. Telephone (907) 271-3751.

Marcia Blaszak,
Deputy Regional Director, Alaska.

[FR Doc. 03-18201 Filed 7-17-03; 8:45 am]

BILLING CODE 4312-H7-P